DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 20, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: SNAP-Ed Connection Resource Sharing Form 889.

OMB Control Number: 0584-0625.

Summary of Collection: Section 28 of the Food and Nutrition Act (FNA) of 2008, as amended (7 U.S.C. 2036a), states that “The Secretary shall establish an online clearinghouse that makes available to State agencies, local agencies, institutions of higher education, and community organizations, best practices for planning, implementing, and evaluating nutrition education and obesity prevention services to ensure that projects carried out with funds received under this section are appropriate for the target population.” Information collected via the SNAP-Ed Connection Resource Sharing Form (FNS-889) form enables the Food and Nutrition Service (FNS) to review and approve resources to be shared publicly on the SNAP-Ed Connection website.

The SNAP-Ed Connection is FNS's online clearinghouse and includes resources shared among SNAP-Ed administrators and educators. This resource website helps SNAP-Ed personnel find the tools and information needed to implement evidence-based obesity prevention programs. The FNS-889 form enables FNS to collect and disseminate SNAP-Ed-related information and resources via the SNAP-Ed Connection website, thus meeting the requirements of the FNA, Section 28(c)(7)1.

This revision to the information collection is necessary to improve the submission process and clarify the information collected, thus providing data that is accurate and beneficial to SNAP-Ed agencies using the resources. These updates are also necessary to align with FNS system and process changes. The updates to the FNS-889 form will align with the new SNAP-Ed National Program Evaluation and Reporting System (N-PEARS) to ensure consistency with SNAP-Ed specific terms. This form update will also help ensure FNS uses the same submission criteria for nutrition and physical activity interventions, as those resources will no longer be accepted via this form, but through the SNAP-Ed intervention submission process.

SNAP-Ed Connection Resource Sharing Form FNS 889: SNAP-Ed personnel use the SNAP-Ed Connection website to locate curricula, participant materials, nutrition research, administrative documents, and information regarding SNAP-Ed program development, implementation and evaluation. Within SNAP-Ed Connection is the SNAP-Ed Library, an online database of SNAP-Ed-related materials. SNAP-Ed personnel and other nutrition and public health agencies use the SNAP-Ed Connection Resource Sharing Form to share information about resources that can be used to administer, develop, implement and showcase SNAP-Ed programs. SNAP-Ed personnel include nutrition education instructors in State, local, and Tribal Governments, and businesses.

Need and Use of the Information: The information collected via this form will be reviewed and approved by FNS for possible inclusion in the SNAP-Ed Library. These collected resources may be shared with SNAP-Ed State and local agencies to provide technical assistance, best practices and help enhance program activities. They may also be highlighted in FNS's communications such as SNAP-Ed email newsletters and other social media platforms.

Respondents to this information collection will be asked to use the FNS-889 form to submit their resources for review and may submit materials at any time. Respondents will access the FNS-889 form via a direct link on the SNAP-Ed Library web page, that will take them to the Microsoft Forms website to complete the form. The form includes instructions to email resource attachments to snap-edconnection@usda.gov upon completion. If a respondent is not able to use the FNS-889 form, they may submit responses to the form questions via email to snap-edconnection@usda.gov.

Description of Respondents: State, Local, Tribal Government, Not-for-Profit.

Number of Respondents: 24.

Frequency of Responses: Reporting: Occasionally; Annually.

Total Burden Hours: 18.

Rachelle Ragland-Greene,
Departmental Information Collection Clearance Officer.

[FR Doc. 2024-10993 Filed 5-17-24; 8:45 am]

BILLING CODE 3410-30-P